NUCLEAR REGULATORY COMMISSION

[Docket Nos. 50-369 and 50-370; NRC-2012-0161]

Duke Energy Carolinas, LLC; McGuire Generating Station, Units 1 and 2

AGENCY: Nuclear Regulatory Commission.

ACTION: License amendment application; withdrawal by applicant.

SUMMARY: The U.S. Nuclear Regulatory Commission (NRC) has granted the request of Duke Energy Carolinas, LLC to withdraw its application dated February 22, 2012, as supplemented by letters dated November 13, 2012 and February 4, 2013, for a proposed amendment to Renewed Facility Operating License Nos. NPF-9 and NPF-17, for the McGuire Nuclear Station, Units 1 and 2. The proposed amendment would have revised the McGuire Technical Specification 3.7.7, “Nuclear Service Water System (NSWS).” Specifically, the proposed change would have the use of the NSWS pump discharge crossover valves and associated piping to cross tie McGuire Nuclear Station, Units 1 and 2 NSWS trains to mitigate a Loss of Service Water event.

ADDRESSES: Please refer to Docket ID NRC-2012-0161 when contacting the NRC about the availability of information regarding this document. You may obtain publicly-available information related to this document using any of the following methods:

• Federal Rulemaking Web site: Go to http://www.regulations.gov and search for Docket ID NRC-2012-0161. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: G. Edward Miller, Office of Nuclear Reactor Regulation, U.S. Nuclear Regulatory Commission, Washington, DC 20555-0001; telephone: 301-415-2481, email: ed.miller@nrc.gov.

SUPPLEMENTARY INFORMATION: The NRC has granted the request of Duke Energy Carolinas, LLC (the licensee) to withdraw its application dated February 22, 2012 (ADAMS Accession No. ML12061A008), for a proposed amendment to the McGuire Nuclear Station, Units 1 and 2, located in York County, North Carolina.

The proposed amendment would have revised the McGuire Technical Specification 3.7.7, “Nuclear Service Water System (NSWS).” Specifically, the proposed change would have the use of the NSWS pump discharge crossover valves and associated piping to cross tie McGuire Nuclear Station Units 1 and 2 NSWS trains to mitigate a Loss of Service Water event.

The NRC published a Biweekly Notice in the Federal Register on July 10, 2012 (77 FR 40650), that gave notice that this proposed amendment was under consideration by the NRC. However, by letter dated July 29, 2015 (ADAMS Accession No ML15212A731), the licensee requested to withdraw the proposed amendment.

Dated at Rockville, Maryland, this 30th day of July 2015.
For the Nuclear Regulatory Commission.
G. Edward Miller,
Project Manager, Plant Licensing Branch 2-1, Division of Operating Reactor Licensing, Office of Nuclear Reactor Regulation.

[FR Doc. 2015-19850 Filed 8-11-15; 8:45 am]

BILLING CODE 7590-01-P